DEPARTMENT OF TRANSPORTATION

Surface Transportation Board

[Docket No. FD 35426]

Columbia & Cowlitz Railway, LLC—Acquisition and Operation Exemption—Columbia & Cowlitz Railway Company

Columbia & Cowlitz Railway, LLC (CLC), a noncarrier, has filed a verified notice of exemption under 49 CFR 1150.31 to acquire from Columbia & Cowlitz Railway Company and to operate approximately 8.5 miles of rail line between milepost 0.0 (Longview) and milepost 8.5 (Ostrander Junction), including auxiliary and spur tracks, in Cowlitz County, Wash.¹

¹ CLC states that it intends to interchange traffic at Rocky Point, Wash., with BNSF Railway Company and Union Pacific Railroad Company, and at Ostrander Junction, with its affiliate, Patriot Woods Railroad, LLC.

This transaction is related to a transaction in which Patriot Rail, LLC and its subsidiaries entered into an asset purchase agreement on July 21, 2010, to acquire from Weyerhaeuser NR Company certain rail assets and the rail assets of five of its subsidiaries.

This transaction is also related to six other transactions for which notices of exemption have been concurrently filed: Docket No. FD 35425, Tennessee Southern Railroad Company, Patriot Rail, LLC, Patriot Rail Holdings LLC, and Patriot Rail Corp.—Continuance in Control Exemption—Columbia & Cowlitz Railway, LLC, Dequeen and Eastern Railroad, LLC, Golden Triangle Railroad, LLC, Mississippi & Skuna Valley Railroad, LLC, Patriot Woods Railroad, LLC, and Texas, Oklahoma & Eastern Railroad, LLC, in which Patriot Rail, LLC and its subsidiaries seek to continue in control of CLC in this proceeding and five other newly created noncarrier subsidiaries, upon the latter becoming Class III rail carriers in the following proceedings: (1) Docket No. FD 35427, DeQueen and Eastern Railroad, LLC—Acquisition and Operation Exemption—DeQueen and Eastern Railroad Company; (2) Docket No. FD 35428, Golden Triangle Railroad, LLC—Acquisition and Operation Exemption—Golden Triangle Railroad Company; (3) Docket No. FD 35429, Mississippi & Skuna Valley Railroad, LLC—Acquisition and Operation Exemption—Mississippi & Skuna Valley Railroad Company; (4) Docket No. FD 35430, Texas, Oklahoma & Eastern Railroad, LLC—Acquisition and Operation Exemption—Texas, Oklahoma & Eastern Railroad Company; and (5) Docket No. FD 35431, Patriot Woods Railroad, LLC—Acquisition and Operation Exemption—Weyerhaeuser NR Company, Weyerhaeuser Woods Railroad Operating Division.

The parties intend to consummate the transaction on or after December 21, 2010.

CLC certified that its projected annual revenues as a result of the transaction will not exceed those that would qualify it as a Class III rail carrier.

Because CLC's projected annual revenues will exceed $5 million, CLC certified to the Board on October 20, 2010, that it had complied on October 20, 2010, with the requirements of 49 CFR 1150.32(e) providing for notice to employees and their labor unions on the affected line. Under 49 CFR 1150.32(e), this exemption cannot become effective until 60 days after the date notice was provided.

If the verified notice contains false or misleading information, the exemption is void ab initio. Petitions to revoke the exemption under 49 U.S.C. 10502(d) may be filed at any time. The filing of a petition to revoke will not automatically stay the effectiveness of the exemption. Petitions for stay must be filed no later than December 10, 2010 (at least 7 days before the exemption becomes effective).

An original and 10 copies of all pleadings, referring to Docket No. FD 35426 must be filed with the Surface Transportation Board, 395 E Street, SW., Washington, DC 20423-0001. In addition, a copy must be served on Louis E. Gitomer, 600 Baltimore Avenue, Suite 301, Towson, MD 21204.

Board decisions and notices are available on our Web site at http://www.stb.dot.gov.

Decided: November 1, 2010.
By the Board, Rachel D. Campbell, Director, Office of Proceedings.
Jeffrey Herzig,
Clearance Clerk.

[FR Doc. 2010-27978 Filed 11-4-10; 8:45 am]

BILLING CODE 4915-01-P